EXPORT-IMPORT BANK OF THE UNITED STATES

Intent To Conduct a Detailed Economic Impact Analysis

AGENCY: Export-Import Bank.

ACTION: Notice.

SUMMARY: Pursuant to the Charter of the Export-Import Bank of the United States, this notice is to inform the public that the Export-Import Bank of the United States has received an application for a $525 million long-term loan guarantee to support the export of approximately $366 million worth of U.S. engineering services, design services, licenses, catalysts, and refining equipment. The U.S. goods and services will be exported to Malaysia and establish production capacity of refined petrochemicals. New capacity from the project is anticipated to produce 718 thousand metric tons per year of jet fuel, 961 thousand metric tons per year of light naphtha, 460 thousand metric tons per year of low sulfur fuel oil, 1.68 million metric tons per year of paraxylene, and 591 thousand metric tons per year of benzene. Production of paraxylene and benzene will primarily be sold to China, while production of jet fuel, light naphtha, low sulfur fuel oil will primarily be sold regionally in Southeast Asia.

DATES: Comments are due 14 days from publication in the Federal Register.

ADDRESSES: Interested parties may submit comments on this transaction electronically on www.regulations.gov, or by email to economic.impact@exim.gov.

Eric Larger,
Office of Policy Analysis and International Relations.

[FR Doc. 2022-13827 Filed 6-28-22; 8:45 am]

BILLING CODE 6690-01-P